DEPARTMENT OF ENERGY

Federal Energy Regulatory Commission

Combined Notice of Filings #1

October 5, 2006.

Take notice that the Commission received the following electric corporate filings:

Docket Numbers: EC06-168-000.

Applicants: Triton Power Michigan LLC; Thermo Cogeneration Partnership, L.P.

Description: Triton Power Michigan LLC and Thermo Cogeneration Partnership submit their application for authorization under Section 203 of the FPA.

Filed Date: 09/27/2006.

Accession Number: 20061003-0146.

Comment Date: 5 p.m. Eastern Time on Wednesday, October 18, 2006.

Take notice that the Commission received the following exempt wholesale generator filings:

Docket Numbers: EG06-84-000.

Applicants: Peetz Logan Interconnect, LLC.

Description: Peetz Logan Interconnect, LLC submits a notice of self-certification of exempt wholesale generator status.

Filed Date: 09/27/2006.

Accession Number: 20061003-0304.

Comment Date: 5 p.m. Eastern Time on Wednesday, October 18, 2006.

Docket Numbers: EG07-1-000.

Applicants: Ewington Energy Systems LLC.

Description: Ewington Energy Systems LLC submits a Notice of Self-Certification of Exempt Wholesale Generator Status located in Jackson County, MN.

Filed Date: 10/03/2006.

Accession Number: 20061003-5033.

Comment Date: 5 p.m. Eastern Time on Tuesday, October 24, 2006.

Docket Numbers: EG07-2-000.

Applicants: Cisco Wind Energy LLC.

Description: Cisco Wind Energy LLC submits a Notice of Self Certification of Exempt Wholesale Generator Status.

Filed Date: 10/03/2006.

Accession Number: 20061003-5037.

Comment Date: 5 p.m. Eastern Time on Tuesday, October 24, 2006.

Take notice that the Commission received the following electric rate filings:

Docket Numbers: ER94-1188-041; ER98-4540-010; ER99-1623-010; ER98-179-012; ER06-1046-003.

Applicants: LG&E Energy Marketing Inc.; Louisville Gas & Electric Company; Kentucky Utilities company; Western Kentucky Energy Corporation.

Description: LG&E Energy Marketing Inc et al submits a notice of change in status with regard to the characteristics upon which FERC previously relied in granting the E.ON Parties market-based rate authority.

Filed Date: 10/02/2006.

Accession Number: 20061005-0035.

Comment Date: 5 p.m. Eastern Time on Monday, October 23, 2006.

Docket Numbers: ER98-1150-008.

Applicants: Tucson Electric Power Company.

Description: Tucson Electric Power Co notifies FERC that it has began purchasing up to 100 MW of power from Tri-State Generation and Transmission Association, Inc, effective 9/1/06 under ER98-1150.

Filed Date: 09/27/2006.

Accession Number: 20061004-0053.

Comment Date: 5 p.m. Eastern Time on Wednesday, October 18, 2006.

Docket Numbers: ER99-1005-006.

Applicants: Kansas City Power & Light Company.

Description: Kansas City Power & Light Co submits a notice of a non-material change in status, related market-based rate authority granted pursuant to the reporting requirements of Order 652.

Filed Date: 10/03/2006.

Accession Number: 20061003-0097.

Comment Date: 5 p.m. Eastern Time on Tuesday, October 24, 2006.

Docket Numbers: ER02-2560-006.

Applicants: Louisville Gas & Electric Company; Kentucky Utilities Company.

Description: Louisville Gas & Electric Company & Kentucky Utilities Company in compliance electric refund report.

Filed Date: 10/02/2006.

Accession Number: 20061002-5037.

Comment Date: 5 p.m. Eastern Time on Monday, October 23, 2006.

Docket Numbers: ER04-1232-005.

Applicants: Southwest Power Pool, Inc.

Description: Southwest Power Pool Inc submits revised pages to its OATT intended to implement the rate change for Southwestern Public Service Co.

Filed Date: 10/02/2006.

Accession Number: 20061003-0248.

Comment Date: 5 p.m. Eastern Time on Monday, October 23, 2006.

Docket Numbers: ER05-1235-003; ER06-847-002.

Applicants: MidAmerican Energy Company.

Description: MidAmerican Energy Co submits a compliance filing, pursuant to Commission's 9/1/06 Order.

Filed Date: 10/02/2006.

Accession Number: 20061003-0249.

Comment Date: 5 p.m. Eastern Time on Monday, October 23, 2006.

Docket Numbers: ER06-20-006.

Applicants: Louisville Gas & Electric Company; E.ON US, LLC.

Description: E.ON US, LLC et al submits a joint OATT pursuant to the August 23, 2006 letter order.

Filed Date: 09/28/2006.

Accession Number: 20061003-0255.

Comment Date: 5 p.m. Eastern Time on Thursday, October 19, 2006.

Docket Numbers: ER06-1001-001.

Applicants: Midwest Independent Transmission System Operator, Inc.

Description: Midwest Independent Transmission System Operator Inc submits proposed revisions to Schedule 10—FERC (Annual Charge Recovery), OAT&EM Tariff.

Filed Date: 10/02/2006.

Accession Number: 20061003-0247.

Comment Date: 5 p.m. Eastern Time on Monday, October 23, 2006.

Docket Numbers: ER06-1024-001.

Applicants: San Diego Gas & Electric Company.

Description: San Diego Gas & Electric Co submits an amendment to its 5/19/06 filing to revise Service Agreements 4 & 6.

Filed Date: 10/02/2006.

Accession Number: 20061005-0031.

Comment Date: 5 p.m. Eastern Time on Monday, October 23, 2006.

Docket Numbers: ER06-1088-001.

Applicants: Entergy Services, Inc.

Description: Entergy Services, Inc on behalf of Entergy Operating Companies submits corrections to its 6/1/06 filing of the 2006 rate redetermination.

Filed Date: 10/02/2006.

Accession Number: 20061004-0138.

Comment Date: 5 p.m. Eastern Time on Monday, October 23, 2006.

Docket Numbers: ER06-1346-001.

Applicants: White Creek Wind I, LLC.

Description: White Creek Wind I, LLC submits an amendment to its 8/4/06 application and the amended tariff.

Filed Date: 10/02/2006.

Accession Number: 20061003-0245.

Comment Date: 5 p.m. Eastern Time on Monday, October 23, 2006.

Docket Numbers: ER06-1544-000.

Applicants: AEP Texas North Company.

Description: AEP Texas North Co submits seven ERCOT Generation Interconnection Agreements with AEP Texas North Generation Co.

Filed Date: 09/28/2006.

Accession Number: 20061003-0178.

Comment Date: 5 p.m. Eastern Time on Thursday, October 19, 2006.

Docket Numbers: ER06-1547-000.

Applicants: Duke Power Company LLC.

Description: Duke Power Company, LLC dba Duke Energy Carolinas, LLC submits the 7/19/06 Confirmation with North Carolina Municipal Power Agency Number 1.

Filed Date: 09/29/2006.

Accession Number: 20061003-0124.

Comment Date: 5 p.m. Eastern Time on Friday, October 20, 2006.

Docket Numbers: ER06-1549-000.

Applicants: Duquesne Light Company.

Description: Duquesne Light Co submits First Revised Sheet 314 et al to FERC Electric Tariff, Sixth Revised Volume 1 to be effective 12/1/06.

Filed Date: 09/29/2006.

Accession Number: 20061003-0240.

Comment Date: 5 p.m. Eastern Time on Friday, October 20, 2006.

Docket Numbers: ER07-1-000.

Applicants: FirstEnergy Solutions Corp.

Description: FirstEnergy Solutions Corporation submits a request for authorization to sale electricity to Pennsylvania Power Company.

Filed Date: 10/02/2006.

Accession Number: 20061004-0127.

Comment Date: 5 p.m. Eastern Time on Monday, October 23, 2006.

Docket Numbers: ER07-2-000.

Applicants: PSI Energy, Inc.

Description: PSI Energy Inc dba Duke Energy Indiana, Inc on behalf of itself and Indiana Municipal Power Agency submits the Ninth Amendment to the Power Coordination Agreement.

Filed Date: 10/02/2006.

Accession Number: 20061004-0067.

Comment Date: 5 p.m. Eastern Time on Monday, October 23, 2006.

Docket Numbers: ER07-3-000.

Applicants: Central Hudson Gas & Electric Corporation.

Description: Central Hudson Gas & Electric Corp submits its Rate Schedule 206, Original Sheet Nos. 1-6, effective 8/1/06.

Filed Date: 10/02/2006.

Accession Number: 20061004-0164.

Comment Date: 5 p.m. Eastern Time on Monday, October 23, 2006.

Docket Numbers: ER07-4-000.

Applicants: Southwest Power Pool, Inc.

Description: Southwest Power Pool, Inc submits an executed Interconnection Agreement w/ Southwestern Electric Power Company et al designated as Service Agreement No. 1285.

Filed Date: 10/02/2006.

Accession Number: 20061004-0068.

Comment Date: 5 p.m. Eastern Time on Monday, October 23, 2006.

Docket Numbers: ER07-5-000.

Applicants: WPS Resources Operating Companies; Upper Peninsula Power Company.

Description: WPS Resources Operating Companies on behalf of Wisconsin Public Service Corp et al submits two notices of cancellation and two revised service agreement cover sheets.

Filed Date: 10/02/2006.

Accession Number: 20061004-0069.

Comment Date: 5 p.m. Eastern Time on Monday, October 23, 2006.

Docket Numbers: ER07-7-000.

Applicants: Black Rock Group, LLC.

Description: Black Rock Group, LLC submits a notice of cancellation of its FERC Electric Tariff, Original Volume 1.

Filed Date: 10/02/2006.

Accession Number: 20061005-0032.

Comment Date: 5 p.m. Eastern Time on Monday, October 23, 2006.

Docket Numbers: ER07-8-000.

Applicants: GGBB Energy, Inc.

Description: GGBB Energy, Inc submits a Petition for Acceptance of Initial Tariff, Waivers and Blanket Authority designated as FERC Electric Tariff, Original Volume 1.

Filed Date: 10/03/2006.

Accession Number: 20061005-0033.

Comment Date: 5 p.m. Eastern Time on Tuesday, October 24, 2006.

Docket Numbers: ER07-9-000.

Applicants: Rowan County Power, LLC.

Description: Rowan County Power, LLC submits a Notice of Cancellation of its market-based rate tariff, FERC Electric Tariff, Third Revised Volume No. 1.

Filed Date: 10/03/2006.

Accession Number: 20061005-0034.

Comment Date: 5 p.m. Eastern Time on Tuesday, October 24, 2006.

Docket Numbers: ER07-10-000.

Applicants: Southern California Edison Company.

Description: Southern California Edison Co submits its Communication Facilities Agreement with the City of Riverside, California.

Filed Date: 10/03/2006.

Accession Number: 20061005-0030.

Comment Date: 5 p.m. Eastern Time on Tuesday, October 24, 2006.

Docket Numbers: ER07-11-000.

Applicants: Southern California Edison Company.

Description: Southern California Edison submits First Revised Sheet 256 et al, First Revised Volume 5, to be effective 12/2/06.

Filed Date: 10/03/2006.

Accession Number: 20061005-0056.

Comment Date: 5 p.m. Eastern Time on Tuesday, October 24, 2006.

Take notice that the Commission received the following foreign utility company status filings:

Docket Numbers: FC07-1-000.

Applicants: Uskmouth Power Limited.

Description: Uskmouth Power Ltd submits a Foreign Utility Notice of Self Certification pursuant to section 366.1 of PUCHA.

Filed Date: 10/03/2006.

Accession Number: 20061003-5016.

Comment Date: 5 p.m. Eastern Time on Tuesday, October 24, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-16967 Filed 10-12-06; 8:45 am]

BILLING CODE 6717-01-P